Proclamation 8197 of October 31, 2007

National Family Caregivers Month, 2007

By the President of the United States of America

A Proclamation

Each year during National Family Caregivers Month, we celebrate all those who dedicate themselves to caring for others and recognize their efforts to comfort and improve the lives of their loved ones in need.

One of our Nation's defining values is compassion, and we must do our best to see that every citizen is treated with dignity and respect. Family caregivers demonstrate this compassion, often at great sacrifice, to assist with everyday activities for family members who are elderly, chronically ill, or disabled. This dedication contributes to a culture of caring and responsibility across our country.

My Administration remains committed to supporting family caregivers by enhancing their access to services, agencies, and other providers. Late last year, I signed “The Lifespan Respite Care Act of 2006,” which establishes a program to assist family caregivers in accessing affordable and high-quality respite care. The National Family Caregiver Support Program encourages cooperation among agencies and other organizations that support and work with the family caregivers. This program offers information, training, and counseling to help family caregivers assist their loved ones.

National Family Caregivers Month is a time to recognize family caregivers for their good hearts and tireless support. Their love and devotion exemplify the true spirit of America.

NOW, THEREFORE, I, GEORGE W. BUSH, President of the United States of America, by virtue of the authority vested in me by the Constitution and laws of the United States, do hereby proclaim November 2007 as National Family Caregivers Month. I encourage all Americans to honor the selfless service of caregivers who support their loved ones in need.

IN WITNESS WHEREOF, I have hereunto set my hand this thirty-first day of October, in the year of our Lord two thousand seven, and of the Independence of the United States of America the two hundred and thirty-second.

[FR Doc. 07-5510

Filed 11-1-07; 9:38 am]

Billing code 3195-01-P